DEPARTMENT OF TRANSPORTATION

Federal Aviation Administration

14 CFR Part 39

[Docket No. FAA-2013-0642; Directorate Identifier 2011-SW-035-AD; Amendment 39-17777; AD 2014-05-04]

RIN 2120-AA64

Airworthiness Directives; Eurocopter Deutschland GmbH Helicopters

AGENCY: Federal Aviation Administration (FAA), DOT.

ACTION: Final rule.

SUMMARY: We are adopting a new airworthiness directive (AD) for Eurocopter Deutschland GmbH (Eurocopter) Model MBB-BK 117 C-2 helicopters with a jettisonable sliding door (door) installed. This AD requires inspecting the lock release assembly and the middle and upper lever locking bolts of each door, replacing any damaged parts with airworthy parts, and ensuring the door is correctly installed. This AD was prompted by the uncommanded detaching of a door from an MBB-BK 117 C-2 fuselage. The actions of this AD are intended to prevent the in-flight loss of the door, which could damage the helicopter and injure persons on the ground.

DATES: This AD is effective April 14, 2014.

The Director of the Federal Register approved the incorporation by reference of a certain document listed in this AD as of April 14, 2014.

ADDRESSES: For service information identified in this AD, contact American Eurocopter Corporation, 2701 N. Forum Drive, Grand Prairie, TX 75052; telephone (972) 641-0000 or (800) 232-0323; fax (972) 641-3775; or at http://www.eurocopter.com/techpub. You may review the referenced service information at the FAA, Office of the Regional Counsel, Southwest Region, 2601 Meacham Blvd., Room 663, Fort Worth, Texas 76137.

Examining the AD Docket

You may examine the AD docket on the Internet at http://www.regulations.gov or in person at the Docket Operations Office between 9 a.m. and 5 p.m., Monday through Friday, except Federal holidays. The AD docket contains this AD, the foreign authority's AD, any incorporated-by-reference service information, the economic evaluation, any comments received, and other information. The street address for the Docket Operations Office (phone: 800-647-5527) is U.S. Department of Transportation, Docket Operations Office, M-30, West Building Ground Floor, Room W12-140, 1200 New Jersey Avenue SE., Washington, DC 20590.

FOR FURTHER INFORMATION CONTACT: Matt Fuller, Senior Aviation Safety Engineer, Safety Management Group, Rotorcraft Directorate, FAA, 2601 Meacham Blvd., Fort Worth, Texas 76137; telephone (817) 222-5110; email matthew.fuller@faa.gov.

SUPPLEMENTARY INFORMATION:

Discussion

On July 23, 2013, at 78 FR 44039, the Federal Register published our notice of proposed rulemaking (NPRM), which proposed to amend 14 CFR part 39 by adding an AD that would apply to Model MBB-BK 117 C-2 helicopters with a jettisonable door installed. The NPRM proposed to require inspecting the lock release assembly and the middle and upper lever locking bolts of each door, replacing any damaged parts with airworthy parts, and ensuring the door is correctly installed. The proposed requirements were intended to prevent the in-flight loss of the door, which could damage the helicopter and injure persons on the ground.

The NPRM was prompted by AD No. 2011-0107, dated June 7, 2011, issued by the European Aviation Safety Agency (EASA), which is the Technical Agent for the Member States of the European Union. AD No. 2011-0107 was issued to correct an unsafe condition for Eurocopter Model MBB-BK 117 C-2 helicopters with jettisonable sliding doors installed. EASA states that in early 2010 it received a report that the door guides of the jettison mechanism on an MBB-BK 117 C-2 helicopter released uncommanded while the door was being opened, resulting in the door detaching from the fuselage. EASA has determined that “this condition, if not detected and corrected, could result in cases of in-flight loss of the jettisonable door, possibly resulting in damage to, or loss of control of, the helicopter, or injury to persons on the ground.” As a result, EASA requires repetitive inspections for the correct installation of the doors, door guides, and release cables.

Comments

We gave the public the opportunity to participate in developing this AD, but we received no comments on the NPRM (78 FR 44039, July 23, 2013).

FAA's Determination

These helicopters have been approved by the aviation authority of Germany and are approved for operation in the United States. Pursuant to our bilateral agreement with Germany, EASA, its technical representative, has notified us of the unsafe condition described in the EASA AD. We are issuing this AD because we evaluated all information provided by EASA and determined the unsafe condition exists and is likely to exist or develop on other helicopters of these same type designs and that air safety and the public interest require adopting the AD requirements as proposed.

Differences Between This AD and the EASA AD

This AD requires that the inspections be conducted within 50 hours time-in-service (TIS). The EASA AD requires that the inspections be conducted within 50 hours TIS or 60 days, whichever occurs first after the effective date of the EASA AD.

The EASA AD requires that you contact Eurocopter to determine corrective action, and this AD does not.

The EASA AD requires a repetitive inspection, each time when the installation of the door guides for the jettisonable sliding doors is accomplished. This AD does not require this repetitive inspection because that is considered normal maintenance.

Related Service Information

We reviewed Eurocopter Alert Service Bulletin MBB-BK117 C-2-52A-015, Revision 0, dated April 26, 2011 (ASB), for Model MBB-BK 117 C-2 helicopters with jettisonable sliding doors installed. The ASB calls for inspecting the lock release assembly for damage and correct installation and inspecting the middle lever and upper lever locking bolts for correct installation. The ASBs require the inspections to be conducted within 50 hours TIS or two months, whichever occurs first, and thereafter after every door guide installation.

Costs of Compliance

We estimate that this AD affects 108 helicopters of U.S. Registry and that labor costs average $85 a work-hour. Based on these estimates, we expect the following costs:

• Visually inspecting the door's lock release assembly and the middle and upper levers requires 4 work-hours for a labor cost of $340 per helicopter. No parts are needed, so that the total cost for the U.S. fleet is $36,720.

• Visually inspecting all hardware, guides and door attachment points for misaligned or bent fittings requires 4 work-hours for a labor cost of $340 per helicopter. Parts may be needed but on an individual basis, so that the total cost for the U.S. fleet is at least $36,720.

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on helicopters identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979);

(3) Will not affect intrastate aviation in Alaska to the extent that it justifies making a regulatory distinction; and

(4) Will not have a significant economic impact, positive or negative, on a substantial number of small entities under the criteria of the Regulatory Flexibility Act.

We prepared an economic evaluation of the estimated costs to comply with this AD and placed it in the AD docket.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2014-05-04 Eurocopter Deutschland GmbH (Eurocopter): Amendment 39-17777; Docket No. FAA-2013-0642; Directorate Identifier 2011-SW-035-AD.

(a) Applicability

This AD applies to Model MBB-BK 117 C-2 helicopters with a jettisonable main cabin sliding door (door) installed, certificated in any category.

(b) Unsafe Condition

This AD defines the unsafe condition as the door detaching uncommanded from the fuselage. This condition could result in the in-flight loss of the door, which could damage the helicopter or cause injury or damage on the ground.

(c) Effective Date

This AD becomes effective April 14, 2014.

(d) Compliance

You are responsible for performing each action required by this AD within the specified compliance time unless it has already been accomplished prior to that time.

(e) Required Actions

Within 50 hours time-in-service:

(1) Visually inspect each door lock release assembly for a frayed cable, a stripped thread on a screw joint, pitting on a door guide, release cable, or associated hardware, and for correct installation by following the Accomplishment Instructions, paragraph 3.B.1. (a) through (c), except (c)(1) and (c)(2), of Eurocopter Alert Service Bulletin MBB-BK117 C-2-52A-015, Revision 0, dated April 26, 2011 (ASB).

(i) Replace with an airworthy part any frayed cables, screw joints with stripped threads, or any door guides, release cables, and associated hardware with pitting. Allow for a minimum of one millimeter clearance at each end of the release cables.

(ii) Install the aft cover and aft inner handle.

(2) Inspect each middle lever and upper lever locking bolt for correct installation by following the Accomplishment Instructions, paragraphs 3.B.2 and 3.B.3, of the ASB, except that we do not require you to contact Eurocopter.

(3) If the door cannot be correctly rigged after performing the actions required by paragraph (e)(2) of this AD, inspect all hardware, guides, and door attachment points for misalignment or bent fittings. Replace misaligned or bent parts with airworthy parts before you operate the door in-flight and re-inspect according to the requirements in paragraph (e)(2) of this AD.

(f) Special Flight Permits

A one-time flight to a maintenance facility is permitted provided that the door is not opened in flight.

(g) Alternative Methods of Compliance (AMOCs)

(1) The Manager, Safety Management Group, FAA, may approve AMOCs for this AD. Send your proposal to: Matt Fuller, Senior Aviation Safety Engineer, Safety Management Group, Rotorcraft Directorate, FAA, 2601 Meacham Blvd., Fort Worth, Texas 76137; telephone (817) 222-5110; email matthew.fuller@faa.gov.

(2) For operations conducted under a 14 CFR part 119 operating certificate or under 14 CFR part 91, subpart K, we suggest that you notify your principal inspector, or lacking a principal inspector, the manager of the local flight standards district office or certificate holding district office, before operating any aircraft complying with this AD through an AMOC.

(h) Additional Information

The subject of this AD is addressed in European Aviation Safety Agency (EASA) AD No. 2011-0107, dated June 7, 2011. You may view the EASA AD on the Internet at http://www.regulations.gov in Docket No. FAA-2013-0642.

(i) Subject

Joint Aircraft Service Component (JASC) Code: 5200, Doors.

(j) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) Eurocopter Alert Service Bulletin MBB-BK117 C-2-52A-015, Revision 0, dated April 26, 2011.

(ii) Reserved.

(3) For Eurocopter service information identified in this AD, contact American Eurocopter Corporation, 2701 N. Forum Drive, Grand Prairie, TX 75052; telephone (972) 641-0000 or (800) 232-0323; fax (972) 641-3775; or at http://www.eurocopter.com/techpub.

(4) You may view this service information at FAA, Office of the Regional Counsel, Southwest Region, 2601 Meacham Blvd., Room 663, Fort Worth, Texas 76137. For information on the availability of this material at the FAA, call (817) 222-5110.

(5) You may view this service information that is incorporated by reference at the National Archives and Records Administration (NARA). For information on the availability of this material at NARA, call (202) 741-6030, or go to: http://www.archives.gov/federal-register/cfr/ibr-locations.html.

Issued in Fort Worth, Texas, on February 20, 2014.
Lance T. Gant,
Acting Directorate Manager, Rotorcraft Directorate, Aircraft Certification Service.

[FR Doc. 2014-04571 Filed 3-7-14; 8:45 am]

BILLING CODE 4910-13-P